DEPARTMENT OF ENERGY

Federal Energy Regulatory Commission

[Project Nos. 13424-002; 14516-000]

Lock+™ Hydro Friends Fund VI, LLC, FFP Iowa 2, LLC; Notice of Competing Preliminary Permit Applications Accepted for Filing and Soliciting Comments, Motions To Intervene, and Competing Applications

On January 2, 2013, Lock+™ Hydro Friends Fund VI, LLC (Hydro Friends) and Free Flow Power Iowa 2, LLC (FFP Iowa 2) filed preliminary permit applications, pursuant to section 4(f) of the Federal Power Act, proposing to study the feasibility of hydropower projects at the U.S. Army Corps of Engineers' (Corps) Mississippi River Lock and Dam No. 13, located on the Mississippi River near Clinton, in Clinton County, Iowa. The sole purpose of a preliminary permit, if issued, is to grant the permit holder priority to file a license application during the permit term. A preliminary permit does not authorize the permit holder to perform any land-disturbing activities or otherwise enter upon lands or waters owned by others without the owners' express permission.

Hydro Friends' proposed Lock and Dam No. 13 Hydroelectric Project (L+D No. 13 Project or project) No. 13424-002 would consist of: (1) A concrete pad built just upstream of the submersible dike and supporting a frame module containing the turbines; (2) a 200-foot-long, 30-foot-deep frame module fitted with a trash rack and containing 15 hydropower turbines each having a capacity of 720 kilowatts (kW) for a total installed capacity of 10,800 kW operating at a net head of nine feet; (3) a 250-foot-long, 200-foot-wide tailrace; (4) a yet undetermined number of draft tubes that would be incorporated into the dyke; (5) a 69 kilovolt transmission line conveying the generated power to the existing power grid at an existing substation on the Illinois side of the river; and (6) appurtenant facilities. The estimated annual generation of the L+D No. 13 Project would be 66,225 megawatt hours. The project would operate run-of-river and utilize the water pool behind the Corps' dam.

Applicant Contact: Mark R. Stover, Vice President of Corporate Affairs, Hydro Green Energy, LLC, 900 Oakmont Lane, Suite 301, Westmont, IL 60559; phone: (877) 556-6566, ext. 711.

FFP Iowa 2's Mississippi Lock and Dam 13 Water Power Project (Mississippi L+D 13 Project or project) No. 14516-000 would consist of: (1) A powerhouse located at the west end of the movable section of the dam and containing three horizontal bulb turbines with a total nameplate capacity of 21.93 megawatts; (2) a 69-kilovolt, 1.25-miles-long either overhead or submarine transmission line connecting the project generation with Alliant Energy transmission facilities; and (3) appurtenant facilities. The majority of the project would be located on lands owned by the United States government and operated by the Corps. The estimated annual generation of the Mississippi L+D 13 Project would be 126.7 gigawatt-hours. The project would operate run-of-river and utilize the water pool behind the Corps' dam.

Applicant Contact: Daniel Lissner, Free Flow Power Corporation, 239 Causeway Street, Suite 300, Boston, MA 02114; phone: (978) 252-7111.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-13424-002, or P-14516-000) in the docket number field to access the document. For assistance, contact FERC Online Support.

Dated: April 29, 2013.
Kimberly D. Bose,
Secretary.

[FR Doc. 2013-10616 Filed 5-3-13; 8:45 am]

BILLING CODE 6717-01-P